EXPORT-IMPORT BANK

Sunshine Act Meeting

Action: Notice of a partially open meeting of the Board of Directors of the Export-Import Bank of the United States.

Time and Place: Thursday, July 3, 2003 at 9:30 a.m. The meeting will be held at Ex-Im Bank in Room 1143, 811 Vermont Avenue, NW., Washington, DC 20571.

Open Agenda Item: Transportation Security Export Program.

Public Participation: The meeting will be open to public participation for Item No. 1 only.

For Further Information Contact: For further information, contact: Office of the Secretary, 811 Vermont Avenue, NW., Washington, DC 20571 (Telephone No. 202-565-3957).

Peter B. Saba,
General Counsel.

[FR Doc. 03-16729 Filed 6-27-03; 2:04 pm]

BILLING CODE 6690-01-M